DEPARTMENT OF THE TREASURY

Office of Foreign Assets Control

Notice of OFAC Sanctions Actions

AGENCY: Office of Foreign Assets Control, Treasury.

ACTION: Notice.

SUMMARY: The Department of the Treasury's Office of Foreign Assets Control (“OFAC”) is publishing updated information for one person that has been placed on OFAC's Specially Designated Nationals and Blocked Persons List (SDN List) based on OFAC's determination that one or more applicable legal criteria were satisfied. All property and interests in property subject to U.S. jurisdiction of this person is blocked, and U.S. persons are generally prohibited from engaging in transactions with this person.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On August 15, 2023, OFAC published updated information for the name of one person on OFAC's SDN List, who remains blocked under the relevant sanctions authorities listed below.

Individual

1. SHAHRIYARI, Behnam (a.k.a. HAMID, Huseyini; a.k.a. MARALLU, Behnam Shahriyari; a.k.a. MIR VAKILI, Seyed Ali Akbar; a.k.a. MIRVAKILI, Seyed Aliakbar; a.k.a. MIRVAKILI, Seyedaliakbar; a.k.a. SHAHCHERAGHI, Seyed Hamid Reza; a.k.a. SHAHRIARI, Behnam; a.k.a. SHAHRYARI, Behnam), Iran; DOB 1968; alt. DOB 22 Sep 1967; alt. DOB 30 Sep 1965; nationality Iran; Additional Sanctions Information—Subject to Secondary Sanctions; Gender Male; Passport K47248790 (Iran) expires 20 Oct 2023; alt. Passport D10007350 (Iran) expires 13 Oct 2025 (individual) [SDGT] [IFSR].

Dated: August 15, 2023.
Andrea M. Gacki,
Director, Office of Foreign Assets Control, U.S. Department of the Treasury.

[FR Doc. 2023-17972 Filed 8-21-23; 8:45 am]

BILLING CODE 4810-AL-P